DEPARTMENT OF LABOR

Mine Safety and Health Administration

30 CFR Parts 57 and 75

[Docket No. MSHA-2025-0089]

RIN 1219-AC17

Powered Air Purifying Respirators (PAPRs) in Underground Mines

AGENCY: Mine Safety and Health Administration (MSHA), Labor.

ACTION: Proposed rule; extension of comment period.

SUMMARY: MSHA is extending the comment period on the proposed rule titled, “Powered Air Purifying Respirators (PAPRs) in Underground Mines,” published in the Federal Register on July 1, 2025, with an established public comment period that is scheduled to end on July 31, 2025. In response to requests for additional time to develop and submit comments on the proposed rule, MSHA is extending the comment period for an additional 30 days—from July 31, 2025, to September 2, 2025.

DATES: The comment period for the proposed rule that was published on July 1, 2025, at 90 FR 28406 is extended. All comments must be submitted by midnight Eastern Standard Time on September 2, 2025.

ADDRESSES: All comment submissions must include RIN 1219-AC17 or Docket No. MSHA-2025-0089. You should not include personal or proprietary information that you do not wish to disclose publicly. If you mark parts of a comment as “business confidential” information, MSHA will not post those parts of the comment. Otherwise, MSHA will post all comments without change, including any personal information provided. MSHA cautions against submitting personal information.

You may submit comments and informational materials, clearly identified by RIN 1219-AC17 or Docket No. MSHA-2025-0089, by any of the following methods:

1. Federal eRulemaking Portal: https://www.regulations.gov. Follow the online instructions for submitting comments for MSHA-2025-0089. A brief summary of this document is available at https://www.regulations.gov/docket/MSHA-2025-0089.

2. Email: zzMSHA-comments@dol.gov. Include “RIN 1219-AC17” in the subject line of the message.

3. Regular Mail or Hand Delivery: MSHA, Office of Standards, Regulations, and Variances, Room C3522, 200 Constitution Avenue NW, Washington, DC 20210. Before visiting MSHA in person, call 202-693-9440 to make an appointment.

No telefacsimiles (“faxes”) will be accepted.

FOR FURTHER INFORMATION CONTACT: Jessica D. Senk, Acting Director, Office of Standards, Regulations, and Variances, MSHA at 202-693-9440 (voice). This is not a toll-free number.

SUPPLEMENTARY INFORMATION: On July 1, 2025, MSHA published in the Federal Register the proposed rule titled, “Powered Air Purifying Respirators (PAPRs) in Underground Mines” (90 FR 28406). The proposed rule is available at the Federal eRulemaking Portal, https://regulations.gov. This proposed rule would codify technical specifications and working conditions in MSHA standards to allow the use of non-permissible PAPRs in specified underground areas of mines.

The public comment period for this proposed rule was scheduled to close on July 31, 2025, 30 days after publication of the proposed rule. MSHA received requests from commenters for an extension of the comment period so that commenters could properly review, research, and develop meaningful comments. The commenters asked for an additional 60 days.

After reviewing these comments, MSHA has determined that it is appropriate to extend the public comment period an additional 30 days until September 2, 2025, in order to provide stakeholders and interested parties extra time to review the proposal and prepare comments.

James P. McHugh,
Deputy Assistant Secretary for Policy, Mine Safety and Health Administration.

[FR Doc. 2025-13746 Filed 7-21-25; 8:45 am]

BILLING CODE 4520-43-P